INTERNATIONAL TRADE COMMISSION

[Investigation No. 337-TA-1251]

Certain Cellular Signal Boosters, Repeaters, Bi-Directional Amplifiers, and Components Thereof (III); Commission Determination Not To Review an Initial Determination Terminating the Investigation Based on Settlement; Termination of the Investigation

AGENCY: U.S. International Trade Commission.

ACTION: Notice.

SUMMARY: Notice is hereby given that the U.S. International Trade Commission has determined not to review an initial determination (“ID”) (Order No. 9) of the presiding administrative law judge (“ALJ”) terminating the investigation based on settlement. The investigation is terminated.

FOR FURTHER INFORMATION CONTACT: Amanda Fisherow, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On February 25, 2021, the Commission instituted this investigation based on a complaint filed by Wilson Electronics LLC of St. George, Utah. 86 FR 11552-53 (Feb. 25, 2021). The complaint, as supplemented, alleged violations of section 337 of the Tariff Act of 1930, as amended (19 U.S.C. 1337), based on the importation into the United States, the sale for importation, or the sale within the United States after importation of certain cellular signal boosters, repeaters, bi-directional amplifiers, and components thereof by reason of infringement of certain claims of eleven patents, including U.S. Patent Nos. 7,486,929 (“the '929 patent”); 7,409,186 (“the '186 patent”); 8,755,399 (“the '399 patent”); and 8,849,187 (“the '187 patent”). Id. at 11553. The complaint, as supplemented, further alleged that a domestic industry exists. Id. The Commission instituted three separate investigations, and defined the scope of the present investigation as whether there is a violation of section 337 based on the allegations of infringement as to the asserted claims of the '929, '186, '399, and '187 patents as to the accused products identified in the notice of investigation. Id. The notice of investigation named two respondents: Cellphone-Mate, Inc. d/b/a SureCall of Fremont, California; and Shenzhen SureCall Communication Technology Co., Ltd. of Shenzhen, China. Id. The Office of Unfair Import Investigations is not named as a party. Id.

On May 12, 2021, the parties jointly moved to terminate this investigation based on a settlement agreement. On May 13, 2021, the ALJ issued the subject ID granting the joint motion to terminate the investigation. The ID explained that the parties provided confidential and public versions of the settlement agreement. ID at 2. The parties also stated that there are no other agreements, written or oral, express or implied, regarding the subject matter of this Investigation. Id. The ID concluded that termination of the investigation is in the public interest. Id. No petitions for review were filed.

The Commission has determined not to review the subject ID. The investigation is terminated.

The Commission vote for this determination took place on May 27, 2021.

The authority for the Commission's determination is contained in section 337 of the Tariff Act of 1930, as amended (19 U.S.C. 1337), and in Part 210 of the Commission's Rules of Practice and Procedure (19 CFR part 210).

By order of the Commission.
Issued: May 27, 2021.
Lisa Barton,
Secretary to the Commission.

[FR Doc. 2021-11593 Filed 6-1-21; 8:45 am]

BILLING CODE 7020-02-P